DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than May 14, 2001.

Also, interested persons are invited to submit written comments regarding the subject matter of the petitions to the Director of DTAA at the address shown below not later than May 14, 2001.

Petitions filed with the Governors are available for inspection at the Office of the Director, DTAA, ETA, DOL, Room C-5311, 200 Constitution Avenue, NW., Washington, DC 20210.

Signed at Washington, DC this 18th day of April, 2001.
Edward A. Tomchick,
Director, Division of Trade Adjustment Assistance.

Appendix

Subject firm | Location | Date received at Governor's office | Petition No. | Articles produced
Pathfinders (Co.) | Sedro Wooley, WA | 02/27/2001 | NAFTA-4,591 | Soft lap top computer cases.
Corning Cable Systems (Co.) | Kernersville, NC | 02/27/2001 | NAFTA-4,592 | Telecommunications products.
William Carter (The) (Wkrs) | Griffin, GA | 02/20/2001 | NAFTA-4,593 | Infants wear.
Edscha (UAW) | Jackson, MI | 02/13/2001 | NAFTA-4,594 | Door hinge.
Eaton (Wkrs) | Marshall, MI | 02/22/2001 | NAFTA-4,595 | Automotive.
Q and M Manufacturing (Wkrs) | Cheboygan, MI | 02/27/2001 | NAFTA-4,596 | Gaskets.
Reptron Manufacturing Services (Wkrs) | Caylord, MI | 02/27/2001 | NAFTA-4,597 | Electronic circuit assemblies.
Inman Mills (Co.) | Inman, SC | 02/28/2001 | NAFTA-4,598 | Woven, greige goods.
Createc Corporation (Wkrs) | Harrodsbury, KY | 03/01/2001 | NAFTA-4,599 | Polystrene packaging.
Marcegaglia USA (Wkrs) | Greenville, PA | 03/01/2001 | NAFTA-4,600 | Stainless steel tube & pipe.
Blue Mountain Products (Wkrs) | Pendleton, OR | 02/27/2001 | NAFTA-4,601 | Wood lumber.
Wilkins Industries (Wkrs) | McRae, GA | 03/01/2001 | NAFTA-4,602 | Women's jeans.
Wilkins Industries (Co.) | Athens, GA | 03/01/2001 | NAFTA-4,602 | Women's jeans.
IEC Electronics (Wkrs) | Edinburg, TX | 03/02/2001 | NAFTA-4,603 | Printed circuit boards.
Nautel Maine (Co.) | Bangor, ME | 03/02/2001 | NAFTA-4,604 | Radio transmitters.
Ropak Northwest (Wkrs) | Kent, WA | 03/02/2001 | NAFTA-4,605 | Plastic containers.
Collis, Inc.—SSW Holding (Wkrs) | Elizabethtown, KY | 02/27/2001 | NAFTA-4,606 | Refrigerator shelves and baskets.
U.S. Intec—Permaglas (Wkrs) | Corvallis, OR | 02/27/2001 | NAFTA-4,607 | Roofing materials.
Kazoo (Wkrs) | San Antonio, TX | 02/16/2001 | NAFTA-4,608 | Pants and shirt.
Cooper Standard Automotive (Co.) | Rocky Mount, NC | 03/05/2001 | NAFTA-4,609 | Extruded rubber parts.
Perfect Fit Industries (Co.) | Richfield, NC | 03/05/2001 | NAFTA-4,610 | Comforters, bed spreads and bedding.
Stanley Fastening Systems (Wkrs) | Hamlet, NC | 03/05/2001 | NAFTA-4,611 | Staple production machines.
Stant Manufacturing (UAW) | Connersville, IN | 03/02/2001 | NAFTA-4,612 | Automotive closure caps.
Budd Company (The) (UAW) | Philadelphia, PA | 03/09/2001 | NAFTA-4,613 | Automotive stamping & assemblies.
Sandhills Printing and Finishing (Co.) | Sanford, NC | 03/09/2001 | NAFTA-4,614 | Printing & Finishing.
Westfield Tanning (Wkrs) | Westifled, PA | 03/09/2001 | NAFTA-4,615 | Leather for footwear.
Trinity Industries (Wkrs) | Johnstown, PA | 03/12/2001 | NAFTA-4,616 | Railroad freight car axles.
NAPCO Button (Co.) | Coppell, TX | 03/09/2001 | NAFTA-4,617 | Dyed buttons.
Eagle Knits of Stanfield (Co.) | Norwood, NC | 03/08/2001 | NAFTA-4,618 | Knit goods (fabric).
Thomas and Betts (Co.) | Pembroke, MA | 03/08/2001 | NAFTA-4,619 | Electronic photocontrols.
Super Sack (Co.) | Savoy, TX | 03/08/2001 | NAFTA-4,620 | Semi-bulk packaging containers.
Skyjack Rental Equipment (Wkrs) | Wathena, KS | 02/16/2001 | NAFTA-4,621 | Mobile elevated working platforms.
STB Systems—3D-FX Interactive (Wkrs) | El Paso, TX | 03/07/2001 | NAFTA-4,622 | PC boards, computer games.
Westark—Dunbrooke Industries (Co.) | Versailles, MO | 03/07/2001 | NAFTA-4,623 | Baseball and coaches jackets.
Do Little Logging (Wkrs) | Lewiston, MT | 03/06/2001 | NAFTA-4,624 | Softwood saw logs.
Brach Confections (IBT) | Chicago, IL | 03/06/2001 | NAFTA-4,625 | Candy.
Thomas and Betts (Wkrs) | Bainbridge, GA | 03/08/2001 | NAFTA-4,626 | Street lights.
Samsonite Corporation, (Co.) | Denver, CO | 03/07/2001 | NAFTA-4,627 | Luggage.
Chicago Steel (Wkrs) | Gary, IN | 03/05/2001 | NAFTA-4,628 | Coil to coil tension leveling.
Kolblena Bresse Bleu (UFCW) | Watertown, WI | 03/05/2001 | NAFTA-4,629 | Goat cheese, cream cheese, blue cheese.
Sierra Pacific Industries (WCIW) | Loyalton, CA | 03/05/2001 | NAFTA-4,630 | Lumber products.
Willamette Industries (Wkrs) | Sweet Home, OR | 03/05/2001 | NAFTA-4,631 | Plywood.
Rosboro Lumber (Wkrs) | Springfield, OR | 02/09/2001 | NAFTA-4,632 | Lumber.
Drexel Heritage Furnishings (IBT) | Black Mountain, NC | 03/12/2001 | NAFTA-4,633 | Residential furniture.
PGP, LC (PACE) | Sherman, TX | 03/12/2001 | NAFTA-4,634 | Edible oil.
Viasystems Technologies (CWA) | Richmond, VA | 03/12/2001 | NAFTA-4,635 | Printed circuit boards.
Freightliner (IAM) | Portland, OR | 03/12/2001 | NAFTA-4,636 | Trucks.
Hoffman New Yorker (Wkrs) | Dusuore, PA | 03/12/2001 | NAFTA-4,637 | Pressing equipment.
Schott Corporation (Wkrs) | Marshall, MN | 03/12/2001 | NAFTA-4,638 | Magnetic transformers.
Borg Warner (Wkrs) | Coldwater, MI | 03/06/2001 | NAFTA-4,639 | Automotive transmission components.
Hastings Manufacturing (Wkrs) | Hastings, MI | 03/12/2001 | NAFTA-4,640 | Piston ring.
Graphic Packaging (AWPPW) | Portland, OR | 03/09/2001 | NAFTA-4,641 | Paperboard packaging.
Kearfott Guidance and Navigation (Wkrs) | Wayne, NJ | 03/06/2001 | NAFTA-4,642 | Breakout boards and harnesses.
Invensys-Powerware Corporation (Co.) | Necedah, WI | 03/12/2001 | NAFTA-4,643 | Power protection.
Valeo Climate Control (Co.) | Arcola, IL | 03/13/2001 | NAFTA-4,644 | Automotive air conditioning modules.
Acme Die Casting (UAW) | Racine, WI | 03/12/2001 | NAFTA-4,645 | Buttom base.
Vera Sportswear (Co.) | Charlestown, MA | 02/17/2001 | NAFTA-4,646 | Skirts, pants and dressers.
Wing Industries (Wkrs) | Greenville, TX | 03/14/2001 | NAFTA-4,647 | Wood doors.
Nucor Bearing Products (Wkrs) | Wilson, NC | 03/14/2001 | NAFTA-4,648 | Bearing components, car hubs.
Lionel LLC (UAW) | Chesterfield, MI | 02/27/2001 | NAFTA-4,649 | Toy trains and accessories.
Avecia (Co.) | Mt. Pleasant, TN | 03/14/2001 | NAFTA-4,650 | Research and laboratory.
Discwax Corporation (Wkrs) | Stanley, NC | 03/14/2001 | NAFTA-4,651 | Wax disc.
Grote Industries (Co.) | Madison, IN | 03/12/2001 | NAFTA-4,652 | Electrical wiring harnesses.
L'Koral (Wkrs) | Vernon, CA | 03/14/2001 | NAFTA-4,653 | Double knit and single knit material.
Fleischmann's Yeast—Burns Phillip Food (Co.) | Oakland, CA | 03/14/2001 | NAFTA-4,654 | Dry yeast products.
Busy B's Cedar (Wkrs) | Priest River, ID | 02/14/2001 | NAFTA-4,655 | Lumber processing.
Motorola Personal Communications Sectors (Wkrs) | Harvard, IL | 02/13/2001 | NAFTA-4,656 | Cellular phones.
Pelton Casteel (Wkrs) | Milwaukee, WI | 03/13/2001 | NAFTA-4,657 | Steel castings.
Racewear Designs (Co.) | El Cajon, CA | 03/13/2001 | NAFTA-4,658 | Jackets and crew shirts.
Kasle Steel (IBT) | Dearborn, MI | 03/01/2001 | NAFTA-4,659 | Coiled and roll steel for auto.
Rayovac Corporation (Wkrs) | Fennimore, WI | 03/11/2001 | NAFTA-4,660 | Alkaline batteries.
Sunshine Precious Metals (Wkrs) | Kellogg, ID | 03/16/2001 | NAFTA-4,661 | Concentrated silver ore.
Federal Mogul (Wkrs) | Malden, MO | 03/16/2001 | NAFTA-4,662 | Aluminum molds and castings.
Bloomsburg Mills (Co.) | Bloomsburg, PA | 03/19/2001 | NAFTA-4,663 | Women's outwear, blouse etc.
Sterling Flibers (Co.) | Pace, FL | 03/15/2001 | NAFTA-4,664 | Acrylic fiber, textile goods.
Worthington Steel (The) (USWA) | Malvern, PA | 03/12/2001 | NAFTA-4,665 | Hot and cold rolled strip steel products.
Nikki Knits (Wkrs) | Goldsboro, NC | 03/20/2001 | NAFTA-4,666 | Girls clothing.
Ten Cate Enbi (Wkrs) | West Henrietta, NY | 03/19/2001 | NAFTA-4,667 | Rubber rollers.
Johnson and Johnson Medical (Wkrs) | El Paso, TX | 03/26/2001 | NAFTA-4,668 | Disposable surgical products.
VF Imagewear (West) (Co.) | Columbus, MS | 03/12/2001 | NAFTA-4,669 | Industrial work pants.
Mayfair Mills (Wkrs) | Starr, SC | 03/26/2001 | NAFTA-4,670 | Greige fabric.
Weyerhaeuser Company (IAMW) | Longview, WA | 03/26/2001 | NAFTA-4,671 | Soft wood dimension lumber.
Bakka Cororation (Wkrs) | El Paso, TX | 03/26/2001 | NAFTA-4,672 | Sewed sporting clothing.
Maxi Switch (Co.) | Tucson, AZ | 03/26/2001 | NAFTA-4,673 | Circuit boards.
SLI Product Lighting (Wkrs) | Mullins, SC | 03/26/2001 | NAFTA-4,674 | Light fixtures.
Specialty Plastic Products (Wkrs) | Jefferson City, TN | 03/26/2001 | NAFTA-4,675 | Child car seat covers.
Dye Works (Co.) | Trenton, NJ | 03/26/2001 | NAFTA-4,676 | Wet processing of garments.
Accuride International (Co.) | Charlotte, NC | 03/23/2001 | NAFTA-4,677 | Metal drawer slides.
Color Edge (Wkrs) | Sturgis, MI | 03/15/2001 | NAFTA-4,678 | Plastic.
Williamson Dickie (Wkrs) | Eagle Pass, TX | 03/23/2001 | NAFTA-4,679 | Jeans.
Thermoplastics Operations—Textron (IUE) | Mishawaka, IN | 03/16/2001 | NAFTA-4,680 | Plastic automotive parts.
Hart Schaffner and marx (UNITE) | Rochester, IN | 03/19/2001 | NAFTA-4,681 | Trousers/slacks, suits, jackets.
ISP Mineral Products (USWA) | Pembine, WI | 03/19/2001 | NAFTA-4,682 | Roffing grapules.
National Steel (Wkrs) | Portage, IN | 03/20/2001 | NAFTA-4,683 | Steel production.
Crane Pumps and Sysem (Wkrs) | Piqua, OH | 03/20/2001 | NAFTA-4,684 | Splitcase casting.
Sonoco (Wkrs) | Shepherd, MI | 03/01/2001 | NAFTA-4,685 | Spiral tubes for tape.
Thomas and Betts (Co.) | St. Matthews, SC | 03/20/2001 | NAFTA-4,686 | Emergency lighting.
Avaya (IBEW) | Shreveport, LA | 03/02/2001 | NAFTA-4,687 | Communication equipment.
Columbia Forest Products (Co.) | Klamath Falls, OR | 03/20/2001 | NAFTA-4,688 | Softwood veneer.
Cajun Bag and Supply (Co.) | Rayne, LA | 03/23/2001 | NAFTA-4,689 | Containers.
Rue Logging, Inc. (Comp.) | South Fork, CO | 03/20/2001 | NAFTA-4,690 | Cut Logs.
Intex Corporation (Co.) | Greensboro, NC | 03/28/2001 | NAFTA-4,691 | Knit Shirts.
Textile Sales And Repair (Co.) | Gastonia, NC | 03/27/2001 | NAFTA-4,692 | Sales of textile & machinery.
Thalman Manufacturing (UNITE) | Hempstead, NY | 03/27/2001 | NAFTA-4,693 | Neckties.
Omniglow Corporation (Co.) | West Springfield, MA | 03/19/2001 | NAFTA-4,694 | Chemiluminescent products.
Ridgeview—Leisure Sock (Wkrs) | Newton, NC | 03/28/2001 | NAFTA-4,695 | Socks.
Americo Group (Wkrs) | New York, NY | 03/28/2001 | NAFTA-4,696 | Short's clothing.
Coastal Machinery (IAMAW) | Portland, OR | 03/27/2001 | NAFTA-4,697 | Planers and feed-tables.
Cummins Power Generation (Co.) | St. Peter, MN | 03/29/2001 | NAFTA-4,698 | Generators, PC board assembly.
American Steel Foundries—Keystone (USWA) | East Chicago, IN | 03/28/2001 | NAFTA-4,699 | Rail car.
Conexant (Wkrs) | El Paso, TX | 03/29/2001 | NAFTA-4,700 | Circuit boards.
Detroit Tool (Wkrs) | Lebanon, MO | 03/29/2001 | NAFTA-4,701 | Tooling and dies.
Renfro Hosiery (Wkrs) | Mr. Airy, NC | 03/20/2001 | NAFTA-4,702 | Socks.
Labanon Apparel (Co.) | Lebanon, VA | 03/30/2001 | NAFTA-4,703 | Health care uniforms.
Superior Lumber (Wkrs) | Glendale, OR | 03/26/2001 | NAFTA-4,704 | Plywood.
Troy Design (Wkrs) | Lansing, MI | 03/13/2001 | NAFTA-4,705 | Design and engineering.
Form Tech Enterprise—Quick Plastics (Wkrs) | Orwigsburg, PA | 03/30/2001 | NAFTA-4,706 | Plastic profile extrusion.
Wabash Alloys (Wkrs) | Oak Creek, WI | 03/30/2001 | NAFTA-4,707 | Alloys.
General Automotive (Co.) | Franklin, WI | 03/30/2001 | NAFTA-4,708 | Fuel Injection parts.
Orion Bus Industries (UAW) | Oriskany, NY | 03/30/2001 | NAFTA-4,709 | Interior bus components.
Textron Fastening Systems (Co.) | Brooklyn, MI | 04/03/2001 | NAFTA-4,710 | Automotive fasteners.
Snuffy's Pet Products (Co.) | McConnellsburg, PA | 04/03/2001 | NAFTA-4,711 | Dog treats.
Lexington Fabrics (Co.) | Florence, AL | 04/03/2001 | NAFTA-4,712 | Knitted sportwear.
Gateway Company (Wkrs) | North Sioux City, SD | 04/02/2001 | NAFTA-4,713 | Personal computers.
Talon Automotive Group, (Wkrs) | New Baltimore, MI | 03/30/2001 | NAFTA-4,714 | Metal stamping.
Fox River Paper (USWA) | Vicksburg, MI | 03/28/2001 | NAFTA-4,715 | Text and cover paper.
Motor Products (UAW) | Owasso, MI | 03/01/2001 | NAFTA-4,716 | Fractional horsepower motors.
Omicron Industries (Co.) | El Paso, TX | 04/05/2001 | NAFTA-4,717 | Pumice stone.
Basset Furniture Industries (Co.) | Bassett, VA | 04/05/2001 | NAFTA-4,718 | Wood furniture.
Wolverine Roof Truss (Co.) | Milan, MI | 03/21/2001 | NAFTA-4,719 | Wooden roof trusses.
Naturipe Berry Growers (IBT) | Watsonville, CA | 03/28/2001 | NAFTA-4,720 | Process strawberry products.
Atofina Chemicals (Wkrs) | Portland, OR | 04/04/2001 | NAFTA-4,721 | Chemicals.
Fashions International (UNITE) | Scranton, PA | 04/04/2001 | NAFTA-4,722 | Garments.
Taylor Lumber and Treating (IAM) | Sheridan, OR | 04/03/2001 | NAFTA-4,723 | Lumber.
William Carter (The) (Wkrs) | Harlingen, TX | 04/04/2001 | NAFTA-4,724 | Sleepwear and Playwears.
Lyons Falls Pulp and Paper (PACE) | Lyons Falls, NY | 03/30/2001 | NAFTA-4,725 | Paper.
Boise Cascade (UBCA) | Emmett, ID | 04/03/2001 | NAFTA-4,726 | Lumber.
Ludlow Building Products (IAW) | Adrian, MI | 04/03/2001 | NAFTA-4,727 | Laminated fibre board.
Crawford Furnifure (Co.) | New Bethlehem, PA | 04/03/2001 | NAFTA-4,728 | Dressers, chests, night stamp.
Nooter Corp. (Comp.) | St. Louis, MO | 04/09/2001 | NAFTA-4,729 | Plate Steel Fabrication.
Stainless Tank Equipment | Cottage Grove, WI | 04/09/2001 | NAFTA-4,730 | Stainless Tanks.
Meridian Automotive Systems | Lapeer, MI | 04/09/2001 | NAFTA-4,731 | Supply Plastic Composite to GM.
Peerless Pattern Works (Wkrs) | Portland, OR | 04/05/2001 | NAFTA-4,732 | Tooling to Mfg Aluminum Castings.
Boston Scientific Corp (Comp) | Maple Grove, MN | 04/09/2001 | NAFTA-4,733 | Diagnostics, Guide Catheters.
Pleasant River Lumber Co (Wkrs) | Dover Foxcroft, ME | 04/09/2001 | NAFTA-4,734 | Framing Lumber, Dimension Lumber.
SCI Systems, Inc. (Comp) | Augusta, ME | 04/09/2001 | NAFTA-4,735 | Electronic Components.
Quadion Corp. (Comp) | Minneapolis, MN | 04/06/2001 | NAFTA-4,736 | Rubber Products.
Badger Sportwear, Inc (Comp) | Fairmont, NC | 04/05/2001 | NAFTA-4,737 | Cotton Athletic Shirts and Shorts.
C-Cor.Net (Wkrs) | Tipton, PA | 04/05/2001 | NAFTA-4,738 | Cable Television Amplifiers.
Mattel (Comp) | Murray, KY | 04/06/2001 | NAFTA-4,739 | Children's Products.
Travis Knits (Wkrs) | Cherrysville, NC | 04/06/2001 | NAFTA-4,740 | Textile Fabric—Dye and Finish.
Berlog, Inc. (Comp.) | Warren, OR | 04/04/2001 | NAFTA-4,741 | Logging.
Grove Worldwide LLC (Wkrs) | Shady Grove, PA | 04/05/2001 | NAFTA-4,742 | Aerial Work Platforms.
SMTC Manufacturing (Comp) | Thornton, CO | 04/06/2001 | NAFTA-4,743 | Printed Circuit Boards.
White Consolidated Industries (Comp) | El Paso, TX | 04/10/2001 | NAFTA-4,744 | Upright Vacuum Cleaners.
Deferiet Paper Co | Deferiet, NY | 03/30/2001 | NAFTA-4,745 | Groundwood Specialty Paper.
Small Woodland (Co.) | Eagle Point, OR | 04/11/2001 | NAFTA-4,746 | Logs.
Thermodisc (Co.) | El Paso, TX | 04/12/2001 | NAFTA-4,747 | Fabricated molded parts.
Antech Corporation (Wkrs) | El Paso, TX | 04/12/2001 | NAFTA-4,748 | Generators, power machines.
Hammond and Associates (Co.) | Lexington, AL | 04/12/2001 | NAFTA-4,749 | T-shirts.
H.H. Fessler Knitting (Wkrs) | Shoemakersville, PA | 04/10/2001 | NAFTA-4,750 | Knit apparel.
Western Electronics (Wkrs) | Eugene, OR | 04/10/2001 | NAFTA-4,751 | Scanner cables.
Mar Bax Shirt (Co.) | Gassville, AR | 03/16/2001 | NAFTA-4,752 | Men's woven dress shirts.
Rubbermaid Cleaning Products (Co.) | Greenville, NC | 04/10/2001 | NAFTA-4,753 | Toilet bowl brushes.
Fontaine Fifth Wheel, (Co.) | Rocky Mount, NC | 04/10/2001 | NAFTA-4,754 | Wheels.
Daimler Chrysler (Wkrs) | Auburn Hills, MI | 03/20/2001 | NAFTA-4,755 | Vehicles.
Butwin—Rennoc Corp. (Wkrs) | St. Paul, MN | 04/12/2001 | NAFTA-4,756 | Men's and boy's clothes.
Seal Glove (Co.) | Millenburg, PA | 04/10/2001 | NAFTA-4,757 | Industrial work gloves.
Exide Technologies (Wkrs) | Dunmore, PA | 04/05/2001 | NAFTA-4,758 | Automotive batteries.
Thomson Saginaw (UAW) | Saginaw, MI | 04/12/2001 | NAFTA-4,759 | Linear race shaft.
Oxford Automotive (UAW) | Alma, MI | 04/16/2001 | NAFTA-4,760 | Metal automotive stamping parts.
Sierra Pine (IAM) | Springfield, OR | 04/12/2001 | NAFTA-4,761 | Particle board.
Cendont (Wkrs) | Great Fall, MI | 04/09/2001 | NAFTA-4,762 | Call center.
C.M.S. Hartzell (IBT) | St. Paul, MN | 04/13/2001 | NAFTA-4,763 | Die casting.
Solon Manufacturing (Co.) | Rhinelander, WI | 04/12/2001 | NAFTA-4,764 | Ice cream sticks and corn dog sticks.
Techalloy (Co.) | Florence, MA | 04/11/2001 | NAFTA-4,765 | Fine wire.
Fleetguard Nelson (Co.) | Neillsville, WI | 04/11/2001 | NAFTA-4,766 | Exhaust filtration products.
Percision Twist Drill (Wkrs) | Crystal Lake, IL | 04/11/2001 | NAFTA-4,767 | Drills.
Trumark (UAW) | Lansing, MI | 04/17/2001 | NAFTA-4,768 | Metal stamping.

[FR Doc. 01-10945 Filed 5-1-01; 8:45 am]

BILLING CODE 4510-30-M